DEPARTMENT OF TRANSPORTATION

Federal Motor Carrier Safety Administration

[Docket No. FMCSA-2007-0007]

Postponement of Medical Review Board (MRB) Public Meeting

AGENCY: Federal Motor Carrier Safety Administration (FMCSA), (DOT).

ACTION: Notice.

SUMMARY: FMCSA announces the postponement of the Medical Review Board meeting that was scheduled for October 15, 2007 from 8 a.m.-11:30 a.m. at the U.S. Department of Transportation.

FOR FURTHER INFORMATION CONTACT: Dr. Mary D. Gunnels, Chief, Physical Qualifications Division, 202-366-4001.

SUPPLEMENTARY INFORMATION: On August 14, 2007, FMCSA published a Notice in the Federal Register announcing a public meeting of the Medical Review Board to be held on October 15, 2007 (72 FR 45479). The meeting announced on August 14, 2007 will not be held. FMCSA will publish a Notice in the Federal Register announcing the date, time, and place of any rescheduled MRB meeting. The public may also refer to: http://www.mrb.fmcsa.dot.gov. for upcoming meeting announcements.

Issued on: October 4, 2007.
Larry W. Minor,
Associate Administrator for Policy and Program Development.

[FR Doc. E7-20106 Filed 10-11-07; 8:45 am]

BILLING CODE 4910-EX-P